DEPARTMENT OF HEALTH AND HUMAN SERVICES

Substance Abuse and Mental Health Services Administration

Fiscal Year (FY) 2003 Funding Opportunities

AGENCY: Substance Abuse and Mental Health Services Administration, HHS.

ACTION: Notice of funding availability for The Centers for the Application of Prevention Technologies (Short Title: CAPTs).

SUMMARY: The Substance Abuse and Mental Health Services Administration (SAMHSA) Center for Substance Abuse Prevention (CSAP) announces the availability of FY 2003 funds for grants for the following activity. This notice is not a complete description of the activity; potential applicants must obtain a copy of the Request for Applications (RFA), including Part I, The Centers for the Application of Prevention Technologies (SP 03-002) (Short Title: CAPTs), and Part II, General Policies and Procedures Applicable to all SAMHSA Applications for Discretionary Grants and Cooperative Agreements, before preparing and submitting an application.

Activity | Application deadline | Est. Funds FY 2003 | Est. No. of awards | Project period
The Centers for the Application of Prevention Technologies | March 10, 2003 | $8,000,000 | 5 | 5 years.

The actual amount available for the award may vary depending on unanticipated program requirements and actual SAMHSA appropriations. This program is being announced prior to the annual appropriation for FY 2003 for SAMHSA's programs. Applications are invited based on the assumption that sufficient funds will be appropriated for FY 2003 to permit funding of State Training and Evaluation of Evidence-Based Practices grants. This program is being announced in order to allow applicants sufficient time to plan and prepare applications. Solicitation of applications in advance of a final appropriation will also enable the award of appropriated grant funds in an expeditious manner and thus allow prompt implementation and evaluation of promising practices. All applicants are reminded, however, that we cannot guarantee sufficient funds will be appropriated to permit SAMHSA to fund the grants. This program is authorized under Section 516 of the Public Health Service Act. SAMHSA's policies and procedures for peer review and Advisory Council review of grant and cooperative agreement applications were published in the Federal Register (Vol. 58, No. 126) on July 2, 1993.

General Instructions: Applicants must use application form PHS 5161-1 (Rev. 7/00). The application kit contains the two-part application materials (complete programmatic guidance and instructions for preparing and submitting applications), the PHS 5161-1 which includes Standard Form 424 (Face Page), and other documentation and forms. Application kits may be obtained from:

The National Clearinghouse for Alcohol and Drug Information (NCADI): (800) 789-2647 or (800-487-4889 TDD).

The PHS 5161-1 application form and the full text of the grant announcement are also available electronically via SAMHSA's World Wide Web Home Page: http://www.samhsa.gov (Click on “Grant Opportunities”).

When requesting an application kit, the applicant must specify the particular announcement number for which detailed information is desired. All information necessary to apply, including where to submit applications and application deadline instructions, are included in the application kit.

Purpose: The Substance Abuse and Mental Health Services Administration (SAMHSA), Center for Substance Abuse Prevention (CSAP) is accepting applications for Fiscal Year 2003 cooperative agreements for five regional Centers for the Application for Prevention Technologies or CAPTs. The CAPTs are SAMHSA/CSAP's primary knowledge application and capacity expansion program supporting CSAP's mission to bring effective substance abuse prevention to every community. As such, the CAPTs form the cornerstone of CSAP's efforts to move science into services. Under the guidance of CSAP, the CAPTs work to expand the capacity of the substance abuse prevention field through the application of effective evidence/science-based programs, practices, and policies within every State prevention service system and community. To accomplish this, the CAPTs provide their clients with timely and effective technical assistance, training, dissemination, and communication services that increase the transfer and application of substance abuse prevention knowledge and skills.

Eligibility: Applications may be submitted by public and domestic private non-profit entities (e.g., universities, faith-based organizations, etc.). It is required that applicants have offices physically located within the CAPT region to be served. Applicants must also be experienced in the delivery of prevention technical assistance and training. Applicants are required to include a certification with their application to certify that—for a minimum of two years prior to the date of the application—the organization has been providing the general types of training and technical assistance services being proposed for this RFA.

Availability of Funds: It is expected that Approximately $8 million will be available for five awards in FY 2003. The annual award will be $1.5 million in total costs (direct and indirect). Applications with proposed Federal budgets that exceed $1.5 million will not be reviewed.

Period of Support: Awards may be requested for up to 5 years.

Criteria for Review and Funding:General Review Criteria: Competing applications requesting funding under this activity will be reviewed for technical merit in accordance with established PHS/SAMHSA peer review procedures. Review criteria that will be used by the peer review groups are specified in the application guidance material.

Award Criteria for Scored Applications: Applications will be considered for funding on the basis of their overall technical merit as determined through the peer review group and the appropriate National Advisory Council review process. Availability of funds will also be an award criterion. Additional award criteria specific to the programmatic activity may be included in the application guidance materials.

Catalog of Federal Domestic Assistance Number: 93.243.

Program Contact: For questions on program issues, contact: Jon Rolf, Ph.D., CSAP/SAMHSA, Rockwall II, Room 800, 5600 Fishers Lane, Rockville, MD 20857, (301) 443-0380 (direct), (301) 443-7072 (fax), e-mail: jrolf@samhsa.gov.

For questions on grants management issues, contact: Steve Hudak, Division of Grants Management, OPS/SAMHSA, Rockwall II, 6th floor, 5600 Fishers Lane, Rockville, MD 20857, (301) 443-9666, e-mail: shudak@samhsa.gov.

Public Health System Reporting Requirements: The Public Health System Impact Statement (PHSIS) is intended to keep State and local health officials apprised of proposed health services grant and cooperative agreement applications submitted by community-based nongovernmental organizations within their jurisdictions.

Community-based nongovernmental service providers who are not transmitting their applications through the State must submit a PHSIS to the head(s) of the appropriate State and local health agencies in the area(s) to be affected not later than the pertinent receipt date for applications. This PHSIS consists of the following information:

a. A copy of the face page of the application (Standard form 424).

b. A summary of the project (PHSIS), not to exceed one page, which provides:

(1) A description of the population to be served.

(2) A summary of the services to be provided.

(3) A description of the coordination planned with the appropriate State or local health agencies.

State and local governments and Indian Tribal Authority applicants are not subject to the Public Health System Reporting Requirements. Application guidance materials will specify if a particular FY 2003 activity is subject to the Public Health System Reporting Requirements.

PHS Non-use of Tobacco Policy Statement: The PHS strongly encourages all grant and contract recipients to provide a smoke-free workplace and promote the non-use of all tobacco products. In addition, Pub. L. 103-227, the Pro-Children Act of 1994, prohibits smoking in certain facilities (or in some cases, any portion of a facility) in which regular or routine education, library, day care, health care, or early childhood development services are provided to children. This is consistent with the PHS mission to protect and advance the physical and mental health of the American people.

Executive Order 12372: Applications submitted in response to the FY 2003 activity listed above are subject to the intergovernmental review requirements of Executive Order 12372, as implemented through DHHS regulations at 45 CFR part 100. E.O. 12372 sets up a system for State and local government review of applications for Federal financial assistance. Applicants (other than Federally recognized Indian tribal governments) should contact the State's Single Point of Contact (SPOC) as early as possible to alert them to the prospective application(s) and to receive any necessary instructions on the State's review process. For proposed projects serving more than one State, the applicant is advised to contact the SPOC of each affected State. A current listing of SPOCs is included in the application guidance materials or on SAMHSA's website under “Assistance with Grant Applications”. The SPOC should send any State review process recommendations directly to: Division of Extramural Activities, Policy, and Review, Substance Abuse and Mental Health Services Administration, Parklawn Building, Room 17-89, 5600 Fishers Lane, Rockville, Maryland 20857.

The due date for State review process recommendations is no later than 60 days after the specified deadline date for the receipt of applications. SAMHSA does not guarantee to accommodate or explain SPOC comments that are received after the 60-day cut-off.

Dated: December 30, 2002.
Richard Kopanda,
Executive Officer, SAMHSA.

[FR Doc. 03-115 Filed 1-2-03; 8:45 am]

BILLING CODE 4162-20-P